FEDERAL COMMUNICATIONS COMMISSION

47 CFR Part 73

[MB Docket No. 23-285; RM-11959; DA 23-1134; FR ID 189736]

Television Broadcasting Services Jacksonville, Oregon

AGENCY: Federal Communications Commission.

ACTION: Final rule.

SUMMARY: The Video Division, Media Bureau (Bureau), has before it a Notice of Proposed Rulemaking issued in response to a Petition for Rulemaking filed by the Dove Media, Inc. (Petitioner). The Petitioner requests the allotment of reserved noncommercial educational (NCE) channel *4 to Jacksonville, Oregon (Jacksonville), in the Table of TV Allotments as the community's first local television service and its first NCE television service. The Petitioner filed comments in support of the petition, as required by the Commission's rules (rules), reaffirming its commitment to apply for channel *4 and if authorized, to construct the facility.

DATES: Effective January 11, 2024.

FOR FURTHER INFORMATION CONTACT: Emily Harrison, Media Bureau, at (202) 418-1665 or Emily.Harrison@fcc.gov.

SUPPLEMENTARY INFORMATION: The proposed rule was published at 88 FR 68557 on October 4, 2023. The Petitioner filed comments in support of the petition reaffirming its commitment to apply for channel *4. No other comments were received.

The Bureau believes the public interest would be served by allotting channel *4 at Jacksonville, which, as of the 2020 Census, has a population of 3,020 and clearly qualifies for community of license status for allotment purposes. Jacksonville has a mayor and six council members, as well as its own police, fire, public works, planning, and other government departments. Jacksonville also has an elementary school, historic district, and a chamber of commerce. The proposal would also result in a first local service to Jacksonville under the Commission's second allotment priority. The Petitioner demonstrates, and a staff engineering analysis confirms, that channel *4 can be allotted to Jacksonville consistent with the minimum geographic spacing requirements for new DTV allotments in section 73.623(d) of the rules, at 42°17′56″ N and 122°45′00″ W (allotment point). In addition, the allotment point complies with section 73.625(a)(1) of the rules as the entire community of Jacksonville is encompassed by the 35 dBμ contour.

This is a synopsis of the Commission's Report and Order, MB Docket No. 23-285; RM-11959; DA 23-1134, adopted December 5, 2023, and released December 5, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under Oregon, by adding an entry for Jacksonville to read as follows:

§ 73.622 Digital television table of allotments.

* * * * *

(j) * * *

Community | Channel No.
* * * * *
Oregon
* * * * *
Jacksonville | * 4
* * * * *

[FR Doc. 2023-27215 Filed 12-11-23; 8:45 am]

BILLING CODE 6712-01-P